DEPARTMENT OF HOUSING AND URBAN DEVELOPMENT

[Docket No. FR-7082-N-10]

60-Day Notice of Proposed Information Collection: Data Collection and Reporting for HUD's Homeless Assistance Programs—Annual Performance Report and System Performance Report; OMB Control No.: 2506-0145

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: December 16, 2024.

ADDRESSES: Interested persons are invited to submit comments regarding this proposal. Written comments and recommendations for the proposed information collection can be sent within 60 days of publication of this notice to www.regulations.gov. Interested persons are also invited to submit comments regarding this proposal by name and/or OMB Control Number and can be sent to: Colette Pollard, Reports Management Officer, REE, Department of Housing and Urban Development, 451 7th Street SW, Room 8210, Washington, DC 20410-5000; telephone 202-402-3400 (this is not a toll-free number) or email at Colette.Pollard@hud.gov for a copy of the proposed forms or other available information.

FOR FURTHER INFORMATION CONTACT: William Snow, Office of Community Planning and Development, Department of Housing and Urban Development, 451 7th Street SW, Washington, DC 20410; email William.Snow@hud.gov or telephone 202-402-4541. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Pollard.

SUPPLEMENTARY INFORMATION: This notice informs the public that HUD is seeking approval from OMB for the information collection described in Section A.

A. Overview of Information Collection

Title of Information Collection: Data Collection and Reporting for HUD's Continuum of Care Program—Annual Performance Report and System Performance Report.

OMB Approval Number: 2506-0145.

Type of Request: Revision of a currently approved collection.

Form Number: N/A.

Description of the need for the information and proposed use: This request is for clearance of data collection and reporting to enable the U.S. Department of Housing and Urban Development (HUD) Office of Community Planning and Development (CPD) to continue to manage and assess the effectiveness of its homeless assistance projects on an annual basis. Per 24 CFR 578.103(e), HUD requires recipients and subrecipients that receive funding through the CoC Program (authorized by the McKinney-Vento Homeless Assistance Act, as amended) to prepare and submit annual project-level reports on performance and spending.

This request will also enable the HUD CPD Office to initiate a process to assess the effectiveness of local coordinated systems of homeless assistance. The McKinney-Vento Homeless Assistance Act, as amended, requires communities to measure their performance as a coordinated system, in addition to analyzing performance of specific projects and project types. Section 427 of the Act established a set of selection criteria for HUD to use in awarding CoC Program funding. These selection criteria require CoCs to report to HUD their system-level performance. The intent of these selection criteria are to encourage CoCs, in coordination with Emergency Solutions Grant (ESG) Program recipients and all other homeless assistance stakeholders in the community, to regularly measure their progress in meeting the needs of people experiencing homelessness in their community and to report this progress to HUD. This request is for HUD to collect system-level performance measure data from CoCs on an annual basis, as described in Appendix B of this document.

The project APR and system-level performance measures both rely on a primary data source in each CoC—a local Homeless Management Information System (HMIS). An HMIS is an electronic data collection system that stores project-level and person-level information about homeless persons who access a community's homeless service system. Over the past two decades, HUD has supported the development of local HMIS by funding their development and implementation, by providing technical assistance, and by developing national data standards that enable the collection of standardized information on the characteristics, service patterns and service needs of homeless persons within a jurisdiction and across jurisdictions. These standards are described in HUD's HMIS Data Standards.

In addition to a CoC's HMIS data, the system-level performance measures will also rely on data collected by CoCs as part of their Point-in-Time (PIT) count efforts. CoCs are required by HUD to complete a sheltered PIT count of all homeless persons who are sheltered in emergency shelter, transitional housing, and Safe Havens and a count of unsheltered persons on a single night in January at least once every other year. HUD incentivizes annual participation in the sheltered and unsheltered PIT count through its annual CoC Program Competition. HUD releases a Notice which outlines its data collection guidance for the PIT count and the Housing Inventory Count (HIC), which is an annual point-in-time inventory of projects within a CoC that provide beds and units dedicated to serve persons who are homeless. jurisdictions. These standards are described in HUD's HMIS Data Standards.

Annual Performance Report
Information collection | Number of respondents | Frequency of response | Responses per annum | Burden hour per response | Annual burden hours | Hourly cost per response | Annual cost
Annual Performance Report (CoC Program)—Non-profit Recipients | 3,550.00 | Annual | 1 | 4 | 14,200.00 | $43.53 | $618,126.00
Annual Performance Report (YHDP)—Non-profit Recipients | 200.00 | Quarterly | 5 | 5 | 5,000.00 | 43.53 | 217,650.00
Performance Report (Special CoC NOFO Grants that report quarterly)—Non-profit Recipients | 110.00 | Quarterly | 4 | 4 | 1,760.00 | 43.53 | 76,612.80
Performance Report (Special CoC NOFO Grants that report annually)—Non-profit Recipients | 28.00 | Annual | 1 | 4 | 112.00 | 43.53 | 4,875.36
Annual Performance Report (CoC Builds NOFO)—Non-profit Recipients | 13.00 | Annual | 1 | 4 | 52.00 | 43.53 | 2,263.56
Annual Performance Report (CoC Program)—State and Local Recipients | 3,550.00 | Annual | 1 | 4 | 14,200.00 | 43.53 | 618,126.00
Annual Performance Report (YHDP)—State and Local Recipients | 200.00 | Quarterly | 5 | 5 | 5,000.00 | 43.53 | 217,650.00
Performance Report (Special CoC NOFO Grants that report quarterly)—State and Local Recipients | 110.00 | Quarterly | 4 | 4 | 1,760.00 | 43.53 | 76,612.80
Performance Report (Special CoC NOFO Grants that report annually)—State and Local Recipients | 28.00 | Annual | 1 | 4 | 112.00 | 43.53 | 4,875.36
Annual Performance Report (CoC Builds NOFO)—State and Local Recipients | 12.00 | Annual | 1 | 4 | 48.00 | 43.53 | 2,089.44
Total | 7,801.00 |  |  |  | 42,244.00 |  | 1,838,881.32

System Performance Measures Report
Information collection | Number of respondents | Frequency of response | Responses per annum | Burden hour per response | Annual burden hours | Hourly cost per response | Annual cost
Group 1: CoCs with Automated Software Report | 385.00 | Annual | 1 | 13 | 5,005.00 | $43.53 | $217,867.65
Group 2: CoCs with Manual Software Report | 15.00 | Annual | 1 | 15 | 225 | 43.53 | 9,794.25
Total | 400.00 |  | 400 |  | 5,230 |  | 227,405.40

Performance Data Check-up
Information collection | Number of respondents | Frequency of response | Responses per annum | Burden hour per response | Annual burden hours | Hourly cost per response | Annual cost
Annual Performance Report (CoC Program) | 7,100.00 | Annual | 1 | 1 | 7,100.00 | $29.76 | $211,296.00
Annual Performance Report (YHDP) | 400.00 | Quarterly | 5 | 1 | 2,000.00 | 42.41 | 84,820.00
Annual Performance Report (Special CoC NOFA Grants) | 56.00 | Annual | 1 | 1 | 56.00 | 29.76 | 1,666.56
Quarterly Performance Report (Special CoC NOFA Grants) | 222.00 | Quarterly | 4 | 1 | 888.00 | 29.76 | 26,426.88
CoC Builds | 25.00 | Annual | 1 | 1 | 25.00 | 29.76 | 744.00
Total | 7,778.00 |  | 12.00 |  | 10,069.00 |  | 324,953.44

Information collection | Number of respondents | Frequency of response | Responses per annum | Burden hour per response | Annual burden hours | Hourly cost per response | Annual cost
System Performance Measures Reports | 400.00 | Annual | 1.00 | 1.00 | 400.00 | $42.41 | $16,964.00

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. chapter 35.

Marion M. McFadden,
Principal Deputy Assistant Secretary for Community Planning and Development.

[FR Doc. 2024-23644 Filed 10-11-24; 8:45 am]

BILLING CODE 4210-67-P